DEPARTMENT OF TRANSPORTATION

Federal Railroad Administration

Agency Information Collection Activities; Request for Comments; Clearance of a New Information Collection: Work Schedules and Sleep Patterns of Railroad Dispatchers

AGENCY: Federal Railroad Administration, DOT.

ACTION: Notice and request for comments.

SUMMARY: The Federal Railroad Administration invites public comments about our intention to request the Office of Management and Budget's (OMB) approval for a new information collection. The proposed collection involves the work schedules and sleep patterns of railroad dispatchers. FRA seeks to develop an understanding of the work schedule-related fatigue issues that affect railroad dispatchers. FRA will use the data obtained from the proposed collection (a survey) to identify whether or not this segment of the railroad workforce has a work and sleep schedule pattern that may compromise their ability to carry out their safety critical role in railroad operations in a suitable manner. FRA is required by the Paperwork Reduction Act of 1995 to publish this notice. The Federal Register notice with a 60-day comment period soliciting comments on the following collection of information was published on August 4, 2005.

DATES: Please submit comments on or before November 14, 2005.

FOR FURTHER INFORMATION CONTACT: Mr. Robert Brogan, Office of Planning and Evaluation Division, RRS-21, Federal Railroad Administration, 1120 Vermont Ave., NW., Mail Stop 17, Washington, DC 20590 (telephone: (202) 493-6292), or Victor Angelo, Office of Support Systems, RAD-20, Federal Railroad Administration, 1120 Vermont Ave., NW., Mail Stop 35, Washington, DC 20590 (telephone: (202) 493-6470). (These telephone numbers are not toll-free.)

SUPPLEMENTARY INFORMATION: The Paperwork Reduction Act of 1995 (PRA), Pub. L. No. 104-13, 2, 109 Stat. 163 (1995) (codified as revised at 44 U.S.C. 3501-3520), and its implementing regulations, 5 CFR Part 1320, require Federal agencies to issue two notices seeking public comment on information collection activities before OMB may approve paperwork packages. 44 U.S.C. 3506, 3507; 5 CFR 1320.5, 1320.8(d)(1), 1320.12. On August 4, 2005, FRA published a 60-day notice in the Federal Register soliciting comment on ICRs that the agency was seeking OMB approval. 70 FR 44971. FRA received two comments in response to this notice. Both commenters supported the proposed information collection.

The first comment came from Mr. Leo McCann, President of the American Train Dispatchers Association (ATDA). ATDA is a rail labor organization that represents approximately 2,100 railroad workers who are charged with the task of safely and efficiently moving the nation's freight and passenger service on a daily around-the-clock basis. In his remarks, Mr. McCann stated the following:

ATDA is considered one of several “non-operating crafts” whose members are subject to work schedule-related fatigue. Fatigue continues to be a factor for the non-operating crafts within the rail industry, especially in view of the working conditions, expanded territories, frequent changes in workweek and starting times, and erratic call schedules for our extra train dispatchers. Our members, like BRS and BMWE, are subject to a number of work schedule-related factors which can lead to fatigue induced accidents and incidents. As such, we support the study contemplated in the above-referenced notice to assist FRA and the rail industry in understanding the impact of work schedules, territory size, call schedules, working conditions, and other factors which may contribute to ATDA employee fatigue.

The second comment came from Mr. Freddie Simpson, President of the Brotherhood of Maintenance of Way Employees (BMWE). The BMWE is a rail labor organization that represents 40,000 railroad workers who build, maintain, repair, and inspect tracks, bridges, and related railroad infrastructure throughout the United States. In his letter, Mr. Simpson noted the following:

Railroad Dispatchers play a critical role in the safety of rail operations. Fatigue has been a huge factor in the railroad industry, and recent railroad mergers and manpower reductions have exacerbated the problem. BMWE contends that the Work Schedules and Sleep Patterns of Railroad Dispatchers, OMB Control Number 2130-NEW, study will help FRA and the rail industry to develop an understanding of the work schedule-related fatigue issues that affect Railroad Dispatchers.

Before OMB decides whether to approve these proposed collections of information, it must provide 30 days for public comment. 44 U.S.C. 3507(b); 5 CFR 1320.12(d). Federal law requires OMB to approve or disapprove paperwork packages between 30 and 60 days after the 30 day notice is published. 44 U.S.C. 3507 (b)-(c); 5 CFR 1320.12(d); see also 60 FR 44978, 44983, Aug. 29, 1995. OMB believes that the 30 day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summaries below describe the nature of the information collection requirements (ICRs) and the expected burden. The proposed requirements are being submitted for clearance by OMB as required by the PRA.

Title: Work Schedules and Sleep Patterns of Railroad Dispatchers.

OMB Control Number: 2130-XXXX.

Type of Request: Approval of a new information collection.

Affected Public: Businesses.

Form(s): FRA F 6180.122; FRA F 6180.123.

Abstract: In a continuing effort to improve rail safety and to reduce the number of injuries and fatalities to rail workers, FRA and the railroad industry have focused on the issue of fatigue, primarily among train and engine crew personnel. Because railroading is an around-the-clock, seven-days-a-week operation and because a wide array of workers are needed both to operate and to maintain the nation's railroads, other crafts—besides train and engine crews—can also be subject to fatigue. The non-operating crafts, including track maintenance, signal system maintenance and telecommunications and railroad dispatchers, fall into this second category. FRA is proposing a study which will focus on railroad dispatchers, one of the non-operating railroad crafts. FRA seeks to develop an understanding of the work schedule-related fatigue issues that affect railroad dispatchers. The proposed study has two primary purposes: (1) It aims to document and characterize the work/rest schedules and sleep patterns of the railroad dispatchers; and (2) It intends to examine the relationship between these schedules and level of alertness/fatigue for the individuals who work these schedules. The intent is to report results in the aggregate, not by individual or railroad. Subjective ratings from participants of their alertness/sleepiness on both work and non-work days will be an integral part of this study. The data will be collected through the use of a daily diary or log completed by participants over a continuous two-week time period, as well as through a brief background questionnaire completed by each participant. Analysis of the diary data will allow FRA to assess whether or not there are any work-related fatigue issues for railroad dispatchers. The proposed study will provide a defensible and definitive estimate of the work/rest cycle parameters and fatigue in dispatchers that will inform possible future FRA regulatory policy and action.

Annual Estimated Burden Hours: 858.

Addressee: Send comments regarding these information collections to the Office of Information and Regulatory Affairs, Office of Management and Budget, 725 Seventeenth Street, NW., Washington, DC 20503; Attention: FRA Desk Officer.

Comments are invited on the following: Whether the proposed collections of information are necessary for the proper performance of the functions of FRA, including whether the information will have practical utility; the accuracy of FRA's estimates of the burden of the proposed information collections; ways to enhance the quality, utility, and clarity of the information to be collected; and ways to minimize the burden of the collections of information on respondents, including the use of automated collection techniques or other forms of information technology.

A comment to OMB is best assured of having its full effect if OMB receives it within 30 days of publication of this notice in the Federal Register.

Authority: The Paperwork Reduction Act of 1995; 44 U.S.C. Chapter 35; and 49 CFR 1.48.

Dated in Washington, DC on October 5, 2005.
D.J. Stadtler,
Director, Office of Budget, Federal Railroad Administration.

[FR Doc. 05-20361 Filed 10-11-05; 8:45 am]

BILLING CODE 4910-06-P